ENVIRONMENTAL PROTECTION AGENCY

[FRL-7878-5]

Science Advisory Board (SAB) Staff Office SAB Ad Hoc All-Ages Lead Model (AALM) Review Panel; Request for Nominations

AGENCY: Environmental Protection Agency (EPA).

ACTION: Notice.

SUMMARY: The U.S. Environmental Protection Agency (EPA or Agency) Science Advisory Board (SAB) Staff Office is announcing the formation of an ad hoc SAB panel to review the Agency's “All-Ages Lead Model (AALM)” (hereinafter, the “Ad Hoc AALM Review Panel” or “Panel”), and is hereby soliciting nominations for this Panel.

DATES: Nominations should be submitted by March 21, 2005 per the instructions below.

FOR FURTHER INFORMATION CONTACT: Any member of the public wishing further information regarding this Request for Nominations may contact Mr. Fred Butterfield, Designated Federal Officer (DFO), EPA Science Advisory Board Staff, at telephone/voice mail: (202) 343-9994; or via e-mail at: butterfield.fred@epa.gov. General information concerning the SAB can be found on the EPA Web site at: http://www.epa.gov/sab.

SUPPLEMENTARY INFORMATION: Background: The SAB was established by 42 U.S.C. 4365 to provide independent scientific and technical advice, consultation, and recommendations to the EPA Administrator on the technical basis for Agency positions and regulations. The SAB is a Federal advisory committee chartered under the Federal Advisory Committee Act (FACA), as amended, 5 U.S.C., App. The Panel will provide advice through the chartered SAB, and will comply with the provisions of FACA and all appropriate SAB Staff Office procedural policies.

The SAB Staff Office is forming this SAB panel at the request of EPA's National Center for Environmental Assessment, Research Triangle Park, NC (NCEA-RTP), for the purpose of providing the Agency with advice and recommendations on the recently-developed All-Ages Lead Model. The AALM will predict lead concentration in body tissues and organs for a hypothetical individual, based on a simulated lifetime of lead exposure. Statistical methods will be used to extrapolate to a population of similarly-exposed individuals. The precursor to the AALM was the Integrated Exposure Uptake Biokinetic (IEUBK) Model for Lead in Children. Version 0.99d of the IEUBK was released in March 1994, and has been widely accepted in the risk assessment community as a tool for implementing the site-specific risk assessment process when the issue is childhood lead exposure. The All-Ages Lead Model has been developed to cover older childhood and adult lead exposure. The anticipated outcome will be reduced uncertainty in lead exposure assessments for adults and children.

Technical Contact: Any questions concerning either the AALM or the IEUBK Model for Lead in Children should be directed to Dr. Robert Elias, NCEA-RTP, at phone: (919) 541-4167; or e-mail: elias.robert@epa.gov. The draft AALM will be posted on the NCEA Web site at: http://www.epa.gov/ncea/ for external review no later than June 2005.

Request for Nominations: The SAB Staff Office is soliciting public nominations of national and international experts in one or more of the following areas:

(1) Lead Exposure Pathway Assessment. Expertise in the physical and chemical properties of lead and the biogeochemical processes involved in the multimedia pathways leading to human exposure to lead. These pathways should include:

(a) air (both direct inhalation and deposition to surfaces likely to be contacted by humans);

(b) drinking water (from typical sources, including municipal distribution systems, commercially bottled water, public drinking water systems, and private wells);

(c) food (including commercial supermarket sources, home gardens and recreational and subsistence fishing/hunting); and

(d) soil/dust ingestion.

(2) Lead Uptake/Absorption. Expertise in the process of the human uptake and/or absorption of lead from oral and/or inhalation intake.

(3) Internal Biokinetic Distribution of Lead. Expertise on the human physiological processes concerning the distribution, mechanisms of transport, accumulation, concentrations at the organ/tissue level, residence times (or other measures of potential impact), and elimination of absorbed lead.

(4) Human Growth and Activity Patterns. Expertise on growth patterns and typical human activity patterns from prenatal to elderly, including recreational, occupational, leisurely, household activities. This would include knowledge of published studies and other modeling applications.

(5) Exposure and Risk Assessment Modeling. Experience in relating a lifetime of human exposure to a potential health outcome, and the quantification of risk related to this health outcome.

(6) Statistical Treatment of Data Input and Model Output, and Model Code. Expertise in assessing the quality of data typically used for model input or the quality of probabilistic input data sets generated by models. Expertise in assessing the statistical interpretation and presentation of model outputs. Expertise in computer programming language; specifically, C++ using XML data format.

Process and Deadline for Submitting Nominations: Any interested person or organization may nominate qualified individuals to add expertise to the Ad Hoc AALM Review Panel in the areas of expertise described above. Nominations should be submitted in electronic format through the SAB Nomination Form which can be accessed through a link on the blue navigational bar on the SAB Web site, at URL: http://www.epa.gov/sab. To be considered, all nominations must include the information required on that form.

Anyone who is unable to submit nominations using this form or has any questions concerning any aspects of the nomination process may contact Mr. Fred Butterfield, DFO, as indicated above in this notice. Nominations should be submitted in time to arrive no later than March 21, 2005.

To be considered, all nominations must include: (a) A current biography, curriculum vitae (C.V.) or resume, which provides the nominee's background, experience and qualifications for the Panel; and (b) a brief biographical sketch (“biosketch”). The biosketch should be no longer than one page and must contain the following information for the nominee:

(i) Current professional affiliations and positions held;

(ii) Area(s) of expertise, and research activities and interests;

(iii) Leadership positions in national associations or professional publications or other significant distinctions;

(iv) Educational background, especially advanced degrees, including when and from which institutions these were granted;

(v) Service on other advisory committees, professional societies, especially those associated with issues under discussion in this review; and

(vi) Sources of recent (i.e., within the preceding two years) grant and/or other contract support, from government, industry, academia, etc., including the topic area of the funded activity.

Please note that even if there is no responsive information (e.g., no recent grant or contract funding), this must be indicated on the biosketch (by “N/A” or “None”). Incomplete biosketches will result in nomination packages not being accepted.

The EPA SAB Staff Office will acknowledge receipt of the nomination. From the nominees identified by respondents to this notice (termed the “Widecast”), the SAB Staff Office will develop a smaller subset (known as the “Short List”) for more detailed consideration. Criteria used by the SAB Staff in developing this Short List are given at the end of the following paragraph. The Short List will be posted on the SAB Web site at: http://www.epa.gov/sab, and will include, for each candidate, the nominee's name and their biosketch. Public comments will be accepted for 21 calendar days on the Short List. During this comment period, the public will be requested to provide information, analysis or other documentation on nominees that the SAB Staff Office should consider in evaluating candidates for the Panel.

For the EPA SAB Staff Office, a balanced subcommittee or review panel is characterized by inclusion of candidates who possess the necessary domains of knowledge, the relevant scientific perspectives (which, among other factors, can be influenced by work history and affiliation), and the collective breadth of experience to adequately address the charge. Public responses to the Short List candidates will be considered in the selection of the Panel, along with information provided by candidates and information independently-gathered by the SAB Staff Office on the background of each candidate (e.g., financial disclosure information and computer searches to evaluate a nominee's prior involvement with the topic under review). Specific criteria to be used in evaluating an individual Panel member include: (a) Scientific and/or technical expertise, knowledge, and experience (primary factors); (b) availability and willingness to serve; (c) absence of financial conflicts of interest; (d) absence of an appearance of a lack of impartiality; and (e) skills working in committees, subcommittees and advisory panels; and, for the Panel as a whole, (f) diversity of, and balance among, scientific expertise, viewpoints, etc. Members of the SAB Ad Hoc AALM Review Panel will likely be asked to attend one public, face-to-face meeting and no more than two public teleconference meetings over the anticipated life of the Panel.

Prospective candidates will also be required to fill-out the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/sge_course/pdf_sge/epaform3110_48.pdf.

The approved policy under which the EPA SAB Office selects subcommittees and review panels is described in the following document: Overview of the Panel Formation Process at the Environmental Protection Agency Science Advisory Board (EPA-SAB-EC-02-010), which is posted on the SAB Web site at: http://www.epa.gov/sab/pdf/ec02010.pdf.

Dated: February 18, 2005.
Vanessa T. Vu,
Director, EPA Science Advisory Board Staff Office.

[FR Doc. 05-3792 Filed 2-25-05; 8:45 am]

BILLING CODE 6560-50-P